INTERNATIONAL TRADE COMMISSION

[Inv. No. 337-TA-511]

In the Matter of Certain Pet Food Treats; Notice of Decision To Review an Initial Determination Finding Respondent TsingTao China in Default

AGENCY: International Trade Commission.

ACTION: Notice.

SUMMARY: Notice is hereby given that the U.S. International Trade Commission has determined not to review an initial determination (ID) issued by the presiding administrative law judge (ALJ) in the above-captioned investigation finding respondent TsingTao ShengRong Seafood, Inc. of TsingTao China (“TsingTao China”) in default.

FOR FURTHER INFORMATION CONTACT: Andrea Casson, Esq., Office of the General Counsel, U.S. International Trade Commission, 500 E Street, SW., Washington, DC 20436, telephone (202) 205-3105. Copies of all nonconfidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 8, 2004, based on a complaint filed by Thomas J. Baumgartner and Hillbilly Smokehouse, Inc., both of Rogers, Arkansas, 69 FR 32044. The complaint alleges violations of section 337 in the importation into the United States, sale for importation, or sale within the United States after importation of certain pet food treats that infringe U.S. Design Patent No. 383,886. The notice of investigation lists six companies as respondents, including TsingTao China.

On August 18, 2004, complainants moved pursuant to section 337(g) and Commission rule 210.16(b) for issuance of an order directing, inter alia, TsingTao China, to show cause why it should not be found in default. Complainants noted that TsingTao China had not responded to the complaint and notice of investigation. On August 30, 2004, the Commission investigative attorney filed a response supporting complainant's motion for an order requiring TsingTao China to show cause why it should not be held in default.

On October 5, 2004, the ALJ issued Order No. 6, which ordered TsingTao China to show cause by October 12, 2004, why it should not be found in default. TsingTao China did not respond to the order to show cause. On November 19, 2004, the ALJ issued an ID (Order No. 8) finding TsingTao China in default. Under Commission rule 210.16(b)(3), TsingTao China is deemed to have waived its right to appear, to be served with documents, and to contest the allegations at issue in this investigation. No petitions for review of the ID were filed.

The authority for the Commission's determination is contained in section 337 of the Tariff Act of 1930, as amended (19 U.S.C. 1337), and in section 210.42 of the Commission's Rules of Practice and Procedure (19 CFR 210.42).

Issued: December 9, 2004.
By order of the Commission.
Marilyn R. Abbott,
Secretary to the Commission.

[FR Doc. 04-27392 Filed 12-14-04; 8:45 am]

BILLING CODE 7020-02-P